DEPARTMENT OF THE INTERIOR

Bureau of Land Management, Interior

[LLWYP06000-L12200000-FV0000]

Notice of Intent To Collect Fees and Modify Existing Fees on Public Lands in Natrona County, WY

AGENCY: Bureau of Land Management, Interior.

ACTION: Notice of intent.

SUMMARY: Pursuant to applicable provisions of the Federal Lands Recreation Enhancement Act (REA), the Bureau of Land Management's (BLM) Casper Field Office is proposing to establish fees for use of the Trapper's Route Special Recreation Management Area (SRMA) and intends to modify the existing fee structure for the Muddy Mountain Environmental Education Area (EEA).

DATES: Comments on the proposed fee changes must be received or postmarked by October 10, 2012, to be assured consideration. Effective 6 months after publication of this notice, the BLM Casper Field Office will initiate fee collection at campgrounds within the Trapper's Route SRMA and change the existing fee structure within the Muddy Mountain EEA, unless the BLM publishes a Federal Register notice to the contrary. Comments received after the close of the comment period or comments delivered to an address other than the one listed in this notice may not be considered or included in the administrative record for the proposed fee.

ADDRESSES: The pertinent Recreation Business Management Plan is available at the BLM Casper Field Office, 2987 Prospector Drive, Casper, Wyoming 82601, and online at: http://www.blm.gov/wy/st/en/field_offices/Casper.html. Comments can be mailed, hand-delivered, or faxed to the BLM, Attn: Outdoor Recreation Planner, Casper Field Office, 2987 Prospector Drive, Casper, Wyoming 82601; fax: 307-261-7587. You may also email your comment to Casper_WYMail@blm.gov with “Recreation Fee Collection” in the subject line.

FOR FURTHER INFORMATION CONTACT: Eve Bennett, Outdoor Recreation Planner, at the above address, or by calling 307-261-7600. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

Public Comment Procedures

The BLM welcomes public comments on this Notice, and on the new and modified fees. Before including your address, telephone number, email address, or other personal identifying information in your comment, you should be aware that your entire comment—including your personal identifying information—may be made publicly available at any time. While you may ask us in your comment to withhold your personal identifying information from public review, we cannot guarantee that we will be able to do so.

You may mail or hand-deliver comments as indicated in the ADDRESSES and DATES sections, above. The BLM will not necessarily consider or include in the administrative record comments received after the close of the comment period (see DATES) unless they are postmarked or electronically dated before the deadline, or comments delivered to an address other than one of those listed above (See ADDRESSES).

Discussion of Fees

The Federal Lands Recreation Enhancement Act (REA), 16 U.S.C. 6801-6814, authorizes the Secretary of the Interior to establish, modify, charge, and collect recreation fees at specified categories of Federal recreation lands and waters. The REA also contains specific provisions addressing public involvement when establishing recreation fees. The authority of the Secretary to carry out these provisions expires 10 years after December 8, 2004. 16 U.S.C. 6809.

The public-involvement provisions of the REA include a requirement that Recreation Resource Advisory Committees or councils be given opportunities to make recommendations regarding the establishment of recreation fees. In Wyoming, a Recreation Action Team serves this advisory function.

In accordance with BLM policy, the Casper Field Office has prepared a Recreation Business Management Plan that explains the fee collection process associated with Trapper's Route SRMA, Muddy Mountain EEA, and special recreation permits. The business plan also outlines how the fees will be used.

The BLM has notified and involved the public at each stage of the planning process. The BLM held a public meeting on July 30, 2009, in conjunction with the National Historic Trails Interpretive Center's presentation of its business plan. The BLM also presented its plan to the Wyoming Recreation Action Team on February 23, 2010.

Each campground that will be subject to the fees announced in this Notice qualifies as a site where visitors can be charged an “expanded amenity recreation fee” in accordance with REA criteria at 43 U.S.C. 6802(g)(2). The Muddy Mountain EEA is a popular recreation area for both day-use and overnight visits. The EEA is located approximately 20 miles south of Casper and has two existing campgrounds. The proposed changes to the existing fee structure include eliminating the day-use fee and increasing the fees for overnight stays and extra vehicles. Camping fees will be increased from $5 to $7 for each overnight stay, and the fee for extra vehicles will be increased from $2 to $3.

The Trapper's Route SRMA is located along the North Platte River between Casper and Alcova, Wyoming, beginning approximately 40 miles southwest of Casper, Wyoming, immediately downstream from Grey Reef Dam. The SRMA spans 41 miles and encompasses more than 3,000 acres of BLM-administered public lands. In 2007, the Casper Field Office completed a recreation area management plan (RAMP) for the SRMA in order to address the negative environmental impacts caused by substantial increases in visitor use on public lands along the North Platte River. Additional infrastructure and reclamation projects have been designed to mitigate these impacts and to sustain the high quality values. New fees for use of the SRMA will be used to supplement the appropriated annual maintenance budget and diversify funding for wildlife habitat and improvement projects. Upon the completion of the recreation improvement projects, there will be eight developed sites comprised of four day-use areas and four overnight campgrounds. The BLM has not charged fees at any developed sites in the SRMA in the past. The expanded amenity fees being established for Trapper's Route SRMA include a $10 fee for overnight camping and $5 fee for each additional vehicle. A day-use fee will not be charged.

Fee amounts will be posted on-site and at the Casper Field Office, where copies of the business plan will also be available. Information concerning the proposed new fees will be available on the BLM Web site, through press releases to local media, and through word of mouth by BLM employees and local users. These efforts will continue following publication of this notice.

The existing fee structure was analyzed in Environmental Assessment WY 062-EA-99-114 (EA) for the Muddy Mountain EEA. In 2007, the BLM prepared an EA (WY 060-02-16) for the Trapper's Route SRMA, which included development of recreational infrastructure and proposed to enact a fee program for the area.

Authority: Notice of establishment of the fee area is provided pursuant to 16 U.S.C. 6803(b).

Buddy W. Green,
Acting State Director.

[FR Doc. 2012-17005 Filed 7-11-12; 8:45 am]

BILLING CODE 4310-22-P